DEPARTMENT OF ENERGY

Federal Energy Regulatory Commission

Combined Notice of Filings #1

Take notice that the Commission received the following electric corporate filings:

Docket Numbers: EC20-71-000.

Applicants: GenOn California South, LP, Ormond Beach Power, LLC, Ellwod Power, LLC.

Description: Application for Authorization Under Section 203 of the Federal Power Act, et al. of GenOn California South, LP, et al.

Filed Date: 6/5/20.

Accession Number: 20200605-5175.

Comments Due: 5 p.m. ET 6/26/20.

Take notice that the Commission received the following exempt wholesale generator filings:

Docket Numbers: EG20-180-000.

Applicants: Assembly Solar I, LLC.

Description: Notice of Self-Certification of Exempt Wholesale Generator Status of Assembly Solar I, LLC.

Filed Date: 6/4/20.

Accession Number: 20200604-5156.

Comments Due: 5 p.m. ET 6/25/20.

Docket Numbers: EG20-181-000.

Applicants: American Electric Power Service Corporation.

Description: Clyde OnSite Generation, LLC Notice of Self-Certification of Exempt Wholesale Generator Status.

Filed Date: 6/5/20.

Accession Number: 20200605-5121.

Comments Due: 5 p.m. ET 6/26/20.

Take notice that the Commission received the following electric rate filings:

Docket Numbers: ER10-2390-005; ER19-784-001; ER10-2394-006; ER12-1563-006; ER10-2395-006; ER10-2422-007; ER12-1562-006; ER11-3642-019.

Applicants: Bicent (California) Malburg LLC, Big Country Datalec LLC, BIV Generation Company, L.L.C., Cayuga Operating Company, LLC, Colorado Power Partners, Rocky Mountain Power, LLC, Somerset Operating Company LLC, Tanner Street Generation, LLC.

Description: Supplement to February 5, 2020 Notice of Non-Material Change in Status of Bicent (California) Malburg LLC, et. al.

Filed Date: 6/5/20.

Accession Number: 20200605-5077.

Comments Due: 5 p.m. ET 6/26/20.

Docket Numbers: ER19-211-002.

Applicants: Entergy Arkansas, LLC, Entergy Louisiana, LLC, Entergy Mississippi, LLC, Entergy New Orleans, LLC, Entergy Texas, Inc., Entergy Arkansas, Inc.

Description: Compliance filing: TCCs JOOA eTariff Compliance to be effective 4/30/2020.

Filed Date: 6/5/20.

Accession Number: 20200605-5050.

Comments Due: 5 p.m. ET 6/26/20.

Docket Numbers: ER19-1916-003.

Applicants: Louisville Gas and Electric Company.

Description: Compliance filing: Order 845 and 845-A Amended Compliance Filing to be effective 5/22/2019.

Filed Date: 6/5/20.

Accession Number: 20200605-5031.

Comments Due: 5 p.m. ET 6/26/20.

Docket Numbers: ER20-1736-001.

Applicants: Versant Power.

Description: Compliance filing: Changes to Attachment J—Formula Rates (Amended ER20-1736) per Order No. 864 to be effective 6/1/2020.

Filed Date: 6/5/20.

Accession Number: 20200605-5011.

Comments Due: 5 p.m. ET 6/26/20.

Docket Numbers: ER20-1992-000.

Applicants: Public Service Company of New Mexico.

Description: Compliance filing: Order No. 864 Compliance Filing to be effective 1/27/2020.

Filed Date: 6/4/20.

Accession Number: 20200604-5130.

Comments Due: 5 p.m. ET 6/25/20.

Docket Numbers: ER20-1993-000.

Applicants: Duke Energy Progress, LLC.

Description: § 205(d) Rate Filing: DEP—French Broad EMC—Wholesale Contract Revisions to Rate Schedule No. 210 to be effective 6/1/2020.

Filed Date: 6/4/20.

Accession Number: 20200604-5145.

Comments Due: 5 p.m. ET 6/25/20.

Docket Numbers: ER20-1994-000.

Applicants: PJM Interconnection, L.L.C.

Description: § 205(d) Rate Filing: Amendment to ISA, Service Agreement No. 4123, Non-Queue #NQ115 to be effective 6/2/2015.

Filed Date: 6/5/20.

Accession Number: 20200605-5021.

Comments Due: 5 p.m. ET 6/26/20.

Docket Numbers: ER20-1995-000.

Applicants: Midcontinent Independent System Operator, Inc.

Description: § 205(d) Rate Filing: 2020-06-05_SA 3364 NIPSCO-Indiana Crossroads Wind Farm 1st Rev GIA (J837 J838) to be effective 5/21/2020.

Filed Date: 6/5/20.

Accession Number: 20200605-5032.

Comments Due: 5 p.m. ET 6/26/20.

Docket Numbers: ER20-1996-000.

Applicants: Assembly Solar I, LLC.

Description: Baseline eTariff Filing: Baseline New to be effective 8/5/2020.

Filed Date: 6/5/20.

Accession Number: 20200605-5039.

Comments Due: 5 p.m. ET 6/26/20.

Docket Numbers: ER20-1997-000.

Applicants: Cheyenne Light, Fuel and Power Company.

Description: Compliance filing: Order No. 864 Compliance Filing to be effective 1/27/2020.

Filed Date: 6/5/20.

Accession Number: 20200605-5048.

Comments Due: 5 p.m. ET 6/26/20.

Docket Numbers: ER20-1998-000.

Applicants: Assembly Solar I, LLC.

Description: § 205(d) Rate Filing: COC filing to be effective 8/5/2020.

Filed Date: 6/5/20.

Accession Number: 20200605-5056.

Comments Due: 5 p.m. ET 6/26/20.

Docket Numbers: ER20-1999-000.

Applicants: Duke Energy Progress, LLC.

Description: § 205(d) Rate Filing: DEP-Haywood Wholesale Contract Revisions to Rate Schedule No. 180 to be effective 6/1/2020.

Filed Date: 6/5/20.

Accession Number: 20200605-5068.

Comments Due: 5 p.m. ET 6/26/20.

Docket Numbers: ER20-2000-000.

Applicants: Clyde Onsite Generation, LLC.

Description: Baseline eTariff Filing: MBR Authority Application to be effective 7/1/2020.

Filed Date: 6/5/20.

Accession Number: 20200605-5089.

Comments Due: 5 p.m. ET 6/26/20.

Docket Numbers: ER20-2001-000.

Applicants: ISO New England Inc.

Description: Informational Filing Regarding Additional Conditions to applicant for participation in the New England Markets of ISO New England Inc.

Filed Date: 6/5/20.

Accession Number: 20200605-5147.

Comments Due: 5 p.m. ET 6/26/20.

Docket Numbers: ER20-2002-000.

Applicants: Mid-Atlantic Interstate Transmission, LLC, PJM Interconnection, L.L.C.

Description: § 205(d) Rate Filing: MAIT submits ECSA No. 5881 to be effective 8/4/2020.

Filed Date: 6/5/20.

Accession Number: 20200605-5156.

Comments Due: 5 p.m. ET 6/26/20.

Docket Numbers: ER20-2003-000.

Applicants: American Transmission Systems, Incorporated, PJM Interconnection, L.L.C.

Description: § 205(d) Rate Filing: ATSI submits ECSA No. 5882 to be effective 8/4/2020.

Filed Date: 6/5/20.

Accession Number: 20200605-5163.

Comments Due: 5 p.m. ET 6/26/20.

Docket Numbers: ER20-2004-000.

Applicants: Public Service Electric and Gas Company, PJM Interconnection, L.L.C.

Description: Compliance filing: PSEG submits Revisions to PJM Tariff, Att. H-10 re: Order 864 to be effective 1/27/2020.

Filed Date: 6/5/20.

Accession Number: 20200605-5179.

Comments Due: 5 p.m. ET 6/26/20.

Docket Numbers: ER20-2005-000.

Applicants: Midcontinent Independent System Operator, Inc.

Description: § 205(d) Rate Filing: 2020-06-05_Intermittent Deliverable ICAP Filing to be effective 8/19/2020.

Filed Date: 6/5/20.

Accession Number: 20200605-5189.

Comments Due: 5 p.m. ET 6/26/20.

Docket Numbers: ER20-2006-000.

Applicants: Duke Energy Progress, LLC.

Description: § 205(d) Rate Filing: DEP-Camden Wholesale Contract Revisions to Rate Schedule No. 197 to be effective 6/1/2020.

Filed Date: 6/5/20.

Accession Number: 20200605-5196.

Comments Due: 5 p.m. ET 6/26/20.

Docket Numbers: ER20-2007-000.

Applicants: San Diego Gas & Electric Company.

Description: § 205(d) Rate Filing: Black Start 2nd Amended and Restated Agreement to be effective 8/4/2020.

Filed Date: 6/5/20.

Accession Number: 20200605-5202.

Comments Due: 5 p.m. ET 6/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2020.
Nathaniel J. Davis, Sr.,
Deputy Secretary.

[FR Doc. 2020-12635 Filed 6-10-20; 8:45 am]

BILLING CODE 6717-01-P